DEPARTMENT OF HOMELAND SECURITY

Coast Guard

33 CFR Part 165

[Docket No. USCG-2025-0459]

Safety Zone; FKCC Swim Around Key West, Key West, FL

AGENCY: Coast Guard, DHS.

ACTION: Notification of enforcement of regulation.

SUMMARY: The Coast Guard will enforce the safety zone for the Florida Keys Community College Swim Around Key West, Key West, Florida, to provide for the safety of life on the navigable waterways during this event. This action is necessary to ensure the safety of event participants and spectators. During the enforcement period, no person or vessel may enter, transit through, anchor in, or remain within the regulated area without approval from the Captain of the Port (COTP) Key West or a designated representative.

DATES: The regulation in 33 CFR 165.786 will be enforced for the Florida Keys Community College Swim Around Key West regulated area listed in item no. 6.1 in the Table to § 165.786, from 9 a.m. until 5 p.m. on June 14, 2025.

FOR FURTHER INFORMATION CONTACT: If you have questions about this notification of enforcement, call or email Chief Marine Science Technician Mathew Mason, Sector Key West Waterways Management Department, Coast Guard. Telephone (305) 292-8823, email Mathew.R.Mason@uscg.mil.

SUPPLEMENTARY INFORMATION: The Coast Guard will enforce the safety zone in 33 CFR 165.786, Table to § 165.786, item no. 6.1, for the Florida Keys Community College Swim Around Key West, from 9 a.m. until 5 p.m. on June 14, 2025. This action is being taken to provide for the safety of life on navigable waterways during this event. The regulation for recurring marine events within Sector Key West COTP zone, § 165.786, Table to § 165.786, item no. 6.1, specifies the location of the regulated area. During the enforcement period, no person or vessel may enter, transit through, anchor in, or remain within the established regulated areas without approval from the Captain of the Port Key West or designated representative. The Coast Guard may be assisted by other Federal, State, or local law enforcement agencies in enforcing this regulation.

In addition to this notification of enforcement in the Federal Register, the Coast Guard will provide notification of the regulated area by Local Notice to Mariners and Broadcast Notice to Mariners. If the Captain of the Port Key West determines that the regulated area need not be enforced for the full duration stated in this publication, he or she may use a Broadcast Notice to Mariners to grant general permission to enter the regulated area.

Dated: June 4, 2025.
Jason D. Ingram,
Captain, U.S. Coast Guard, Captain of the Port Key West.

[FR Doc. 2025-10489 Filed 6-9-25; 8:45 am]

BILLING CODE 9110-04-P